FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011707-009.

Title: Gulf/South America Discussion Agreement.

Parties: BBC Chartering & Logistic GMBH & Co. KG; Industrial Maritime Carriers LLC; Seaboard Marine, Ltd.; and West Coast Industrial Express, LLC.

Filing Party: Wade S. Hooker, Esq.; 211 Central Park W; New York, NY 10024.

Synopsis: The amendment removes BBC Chartering & Logistic GMBH & Co. KG as a party to the agreement.

By Order of the Federal Maritime Commission.
Dated: November 30, 2012.
Rachel E. Dickon,
Assistant Secretary.

[FR Doc. 2012-29421 Filed 12-4-12; 8:45 am]

BILLING CODE 6730-01-P